DEPARTMENT OF HOMELAND SECURITY

Coast Guard

33 CFR Part 165

[Docket No. USCG-2011-0585]

Safety Zones; Annual Fireworks Events in the Captain of the Port Detroit Zone

AGENCY: Coast Guard, DHS.

ACTION: Notice of enforcement of regulation.

SUMMARY: The Coast Guard will enforce two safety zones for annual fireworks events in the Captain of the Port Detroit zone at various times from 10 p.m. on July 3, 2011 through 9 p.m. on July 5, 2011. This action is necessary and intended to ensure safety of life on the navigable waters immediately prior to, during, and immediately after fireworks events. This rule will establish restrictions upon, and control movement of, vessels in a specified area immediately prior to, during, and immediately after fireworks events. During an enforcement period, no person or vessel may enter the safety zone without permission of the Captain of the Port.

DATES: The regulations in 33 CFR 165.941 will be enforced from 10 p.m. until 11 p.m. on July 3, 2011 and then again from 8:30 p.m. until 9 p.m. on July 4, 2011. In the event of inclement weather, each enforcement period will be postponed 24 hours.

FOR FURTHER INFORMATION CONTACT: If you have questions on this notice, call or e-mail LT Katie Stanko, Prevention, U.S. Coast Guard Sector Detroit, 110 Mount Elliot Ave., Detroit MI, 48207; telephone (313) 568-9508, e-mail katie.r.stanko@uscg.mil.

SUPPLEMENTARY INFORMATION: The Coast Guard will enforce the following safety zones published in the Federal Register on August 8, 2008 (73 FR 46197) and on June 9, 2010 (75 FR 32666):

Section 165.941(a)(39) Port Sanilac 4th of July Fireworks, Port Sanilac, MI

This regulation will be enforced from 10 p.m. to 11 p.m. on July 3, 2011. In the case of inclement weather on July 3, 2011, this regulation will be enforced from 10 p.m. to 11 p.m. on July 4, 2011.

Section 165.941(a)(48) Tawas Area 4th of July Fireworks, Tawas City, MI

This regulation will be enforced from 8:30 p.m. to 9 p.m. on July 4, 2011. In the case of inclement weather on July 4, 2011, this regulation will be enforced from 8:30 p.m. to 9 p.m. on July 5, 2011.

Under the provisions of 33 CFR 165.23, entry into, transiting, or anchoring within these safety zones while they are being enforced is prohibited unless authorized by the Captain of the Port Detroit or his designated representative. Vessels that wish to transit through any of the safety zones may request permission from the Captain of the Port Detroit. Requests must be made in advance and approved by the Captain of Port before transits will be authorized. Approvals will be granted on a case by case basis. The Captain of the Port may be contacted via U.S. Coast Guard Sector Detroit on channel 16, VHF-FM. The Coast Guard will give notice to the public via a Broadcast to Mariners that the regulation is in effect.

This notice is issued under authority of 33 CFR 165.941 and 5 U.S.C. 552(a). In addition to this notice in the Federal Register, the Coast Guard will provide the maritime community with advance notification of these enforcement periods via the Broadcast Notice to Mariners or Local Notice to Mariners. The Captain of the Port, or his authorized representative, will issue a Broadcast Notice to Mariners notifying the public when enforcement of the safety zones established by this section are suspended. If the Captain of the Port Detroit determines that the safety zones need not be enforced for the full duration stated in this notice, he may use a Broadcast Notice to Mariners to grant general permission to enter the safety zone.

Dated: June 21, 2011.
E.J. Marohn,
Commander, U.S. Coast Guard, Acting Captain of the Port Detroit.

[FR Doc. 2011-16408 Filed 6-29-11; 8:45 am]

BILLING CODE 9110-04-P